DEPARTMENT OF HOUSING AND URBAN DEVELOPMENT

[Docket No. FR-5260-N-01]

Notice of Fiscal Year (FY) 2009 Opportunity To Register Early and Other Important Information for Electronic Application Submission Via Grants.gov

AGENCY: Office of Assistant Secretary for Administration, HUD.

ACTION: Notice.

SUMMARY: This notice provides instructions to potential applicants applying for funding under HUD's Fiscal Year (FY) 2009 grant programs available through Grants.gov, including changes to the Grants.gov registration process scheduled for January 2009. This notice does not pertain to applicants who will be applying in FY2009 for Continuum of Care funds. HUD will publish a separate notice to address the receipt of Continuum of Care applications in FY2009. Today's Federal Register notice provides information to help applicants better understand the registration and electronic submission process for HUD applications made available through Grants.gov. Grants.gov is the federal portal for applicants to electronically find and apply for over 1,000 funding opportunities made available by 26 federal grant-making agencies. Grants.gov offers the applicant community a common Web site where applicants can apply for a variety of federal assistance programs. To date, all 26 Federal grant-making agencies have posted their funding opportunities and electronic application packages to Grants.gov.

HUD believes that by facilitating a better understanding of the electronic submission process, applicants will be able to more easily make the transition to electronic application submission. HUD advises potential applicants to carefully read this notice and immediately begin the registration process or renew their registration from prior years.

FOR FURTHER INFORMATION CONTACT: The Office of Departmental Grants Management and Oversight, Office of Administration, Department of Housing and Urban Development, 451 7th Street, SW., Room 3156, Washington, DC 20410-5000; telephone number 202-708-0667. Persons with hearing or speech impairments may access this number via TTY by calling the Federal Information Relay Service at 800-877-8339.

Full Text of Announcement

With today's Federal Register notice, HUD is encouraging applicants to complete or update their registration in advance of HUD posting its FY2009 grant opportunities. HUD found that publishing an Early Registration Notice eliminates many last minute registration issues, and allows applicants time to ensure that all steps in the registration process have been correctly completed. Today's Federal Register Notice also provides time for applicants to have questions addressed regarding the registration and submission processes. HUD strongly encourages prospective applicants for FY2009 HUD grants to register or update/renew their registration for application submission via Grants.gov as soon as possible by following the instructions in this notice.

Applicants should note that Grants.gov requires, to apply on-line electronically, an electronically authorized signature, known as e-Authentication. This requirement for an authenticated electronic signature serves to protect the applicant and the applicant's information, and to assure federal agencies that they are interacting with officials authorized to submit applications on behalf of applicant entities.

Applicants should also note that HUD, in FY2009, will utilize Adobe forms in the application packages posted to www.Grants.gov. The Adobe forms are compatible with the Microsoft Windows Vista operating systems, Apply Macintosh computers, and Microsoft Office 2007. Grants.gov is currently using Adobe Reader versions: 8.1.2, 8.1.3 and 9.0. While Grants.gov supports all three versions of Adobe Reader, HUD applicants must download Adobe Reader 8.1.3 available on the Grants.gov Web site. For information on compatibility or to download the Adobe Reader, go to the Grants.gov Web site at http://www.grants.gov/help/download_software.jsp.

Today's Federal Register Notice is divided into three sections. Section I defines key terms used as part of the registration process. Section II describes the registration process, including steps to renew/update an existing registration. Section III describes the process for downloading an application package and the application applications instructions package from Grants.gov. Information regarding signing up for Grants.gov RSS Feed services is also provided.

As already noted, for FY2009, HUD will continue to require applicants to submit their applications electronically via Grants.gov.

I. Key Terms Used as Part of the Registration Process

1. Applicant Organization. The applicant organization is an entity that is identified as the legal applicant for funding in box 8a on the SF-424, Application for Federal Financial Assistance and is the organization that HUD will hold accountable to fulfill the requirements of the award, should the applicant be selected for funding. Grant writers or persons authorized to submit an application for funding by the applicant organization E-Biz POC (See E-Business Point of Contact definition below), must not enter their organization or their organization's DUNS number in the SF-424, Application for Federal Assistance. Grant writers who wish to submit an application on behalf of an applicant organization must become an AOR to submit the application. (See definition of Authorized Organization Representative below, and registration instructions for AORs later in this Notice).

2. Authorized Organization Representative (AOR). The applicant organization (applicant Legal Name on box 8a of the SF-424) E-Biz POC, must grant permission for a person to become an AOR and submit an application on behalf of the applicant organization through the Grants.gov system. Authorizing an AOR safeguards the applicant organization from unauthorized individuals who may attempt to submit a grant application without permission. To check the AOR status, go to https://apply07.grants.gov/apply/ApplicantLoginGetID. Then, using the username and password (obtained from the Credential Provider) check to see if the E-Biz POC has granted approval or if the request to be an AOR is noted as “Request Sent”. If the information says “Request Sent”, the approval has not been granted. AORs are advised to contact the E-Biz POC to determine the basis for the lack of approval. A proposed AOR cannot submit the application to Grants.gov without AOR status noted as “Approved”.

3. eBusiness Point of Contact (E-Biz POC). The E-Biz POC is identified during the Central Contractor Registration Process (Step 2 of the Registration Process). The E-Biz POC must grant authority for a person to be the AOR. An E-Biz POC may serve as an AOR as well as an E-Biz POC. The E-Biz POC becomes the sole Grants.gov authority for the organization and has the capability of designating or revoking an AOR's ability to submit a grant application on behalf of the organization using the Grants.gov system.

4. Marketing Partner ID Number (MPIN). As part of the CCR Registration Process, the E-Biz POC will be asked to create an MPIN. The MPIN is a nine character (alpha numeric) password that is used to access other systems and should be well guarded. For organizations wishing to apply for Federal grants using the Grants.gov system, the MPIN is required for the E-Biz POC to log into to the Grants.gov system and grant the person requesting permission to be an AOR, the permission to submit the grant on behalf of the applicant organization.

5. Trading Partner Identification Number (TPIN). A TPIN is a password that is used to access the applicant organization's Central Contractor Registration (CCR) data. Organizations that become active in CCR are issued a TPIN (password) to access their record in order to make, or request, any changes or updates to their CCR registration. Because of the sensitivity of this data, CCR recommends that CCR registrants not disclose their TPIN to anyone under any circumstances.

II. Instructions on Completing the Registration Process for New Applicants or Applicants Updating or Renewing Registration

A. The Need To Register With Grants.gov

HUD provides funding to only to organizations. This information, therefore, is directed to HUD applicants that are organizational entities.

Before an applicant can apply for a grant opportunity, the applicant must first register with Grants.gov to provide and obtain certain identifying information. Please note that registration is a multi-step process. The registration process also requires the applicant organization to provide information at Web sites other than Grants.gov. Registration protects both HUD and the applicant. Specifically, registration confirms that the applicant organization E-Biz POC has designated and authorized a certain individual or entity to submit an application on its behalf and assures HUD that it is interacting with a designated representative of the applicant who has been authorized to submit the application.

B. Steps To Register

HUD's notice of funding availability (NOFA) process requires applicants to submit applications electronically through Grants.gov. Before being able to do so, applicants must complete several important steps to register or update/renew their registration to be able to submit the application. The registration process can take approximately 2 to 4 weeks to complete.

1. Step One: Obtain a Dun and Bradstreet Data Universal Numbering System (DUNS)

Step One of the registration process requires an applicant organization to obtain a DUNS number for the organizational entity for which an application for federal assistance will be submitted. All organizations seeking funding directly from HUD must have a DUNS number and include the number on the form SF-424, Application for Federal Financial Assistance, which is part of the application package. The DUNS number is also a required as part of the registration process. If the applicant organizational entity identified in box 8a on the SF-424, already has a DUNS number, it must use that number. The number must be registered for the organizational entity legal name. Failure to provide a DUNS number or the correct DUNS number associated to the applicant organization legal name as entered on the SF 424 form, box 8a and CCR can prevent you from submitting a grant application or obtaining an award, regardless of whether it is a new award or renewal of an existing one. This policy is pursuant to OMB policy issued in the Federal Register on June 27, 2003 (68 FR 38402). HUD codified the DUNS number requirement on November 9, 2004 (69 FR 65024). A copy of the OMB Federal Register notice and HUD's regulation codifying the DUNS number requirement can be found at http://www.hud.gov/offices/adm/grants/duns.cfm. Applicants cannot submit an electronic application without a DUNS number. An incorrect DUNS number in an application package will result in Grants.gov rejecting your application because the DUNS number entered in the application will not be consistent with the DUNS number associated to the applicant legal name as entered in box 8a of the SF 424, CCR, and Internal Revenue Service (IRS) records. The applicant legal name and DUNS number used on the application must match the DUNS number and Organization Name used in the CCR. Applicants must note that information entered and used to obtain the DUNS number will be used to pre-populate the CCR, which is Step Two of the registration process. Applicants should, therefore, carefully review information entered when obtaining a DUNS number. When registering with Dun and Bradstreet (D&B), please be sure to use the organizational entity's legal name used when filing a return or making a payment to the Internal Revenue Service (IRS). Organizations should also provide the zip code using the zip code plus four code (Zip+4).

Applicants can obtain a DUNS number by calling 866-705-5711 option 4 for grant applicants. (This is a toll-free number.) Applicants in Alaska and Puerto Rico can call 800-234-3867. The approximate time to get a DUNS number is 10 to 15 minutes, and there is no charge. Applicants may also obtain a DUNS number by accessing the Dun & Bradstreet Web site at http://fedgov.dnb.com/webform to obtain a number. The approximate time to create the number online is 1 business day. After obtaining your DUNS number, applicants should wait 24 to 48 hours to register with the CCR so that its DUNS number has time to become activated in the D&B records database.

2. Step Two: Register with the CCR

The second step of the registration process is registering with the CCR. The CCR is the primary registrant database for the federal government. An organization planning to submit a grant application for the first time must register, using its legal business name and name used with the IRS. CCR allows you to establish roles and Usernames for representatives that will use Grants.gov to submit electronic grant applications. Applicant organizations must annually update or renew their registration at http://www.ccr.gov, clicking on the link entitled “Update or Renew Registration.” If you need assistance with the CCR registration process, you can contact the CCR Assistance Center, 24 hours a day, 7 days a week at 888-277-2423 or 269-961-5757. Applicants can also obtain assistance online at http://www.ccr.gov. A CCR Handbook that guides applicants through the registration process is available on the CCR Web site by clicking on “Help.” If an applicant organization fails to update/renew its CCR registration, the Grants.gov registration will lapse prohibiting the application from being accepted by Grants.gov due to failure to have a complete registration. Registration, including update/renewal, can take several weeks as CCR compares its records to those maintained by D&B and IRS. The records in D&B, CCR and IRS must match. If discrepancies arise, Step Two cannot be completed until the discrepancies are resolved. For this reason, HUD urges applicants to complete the CCR registration, or update/renew its existing registration, immediately. Otherwise, the CCR check with D&B and IRS records may delay completing the registration process and adversely affect the ability to submit a grant application.

The CCR registration process consists of completing a Trading Partner Profile (TTP), which contains general, corporate, and financial information about your organization. When completing the TTP, you will be required to identify an E-Biz POC, responsible for maintaining the information in the TTP and granting authorization to individuals to serve as AORs. An AOR is the individual who will submit the application through Grants.gov for the applicant organization. Applicants can check the CCR registration and E-Biz POC by going to http://www.ccr.gov and searching by clicking on “Search CCR.”

a. CCR Use of D&B Information. In July 2006, CCR implemented a policy change. Under this policy change, instead of obtaining name and address information directly from the registrant, CCR obtains the following data fields from D&B: Legal Business Name; Doing Business as Name (DBA); Physical Address; and Postal Code (Zip+4). Registrants will not be able to enter or modify these fields in CCR as they will be pre-populated using previously registered Dun and Bradstreet Data Universal Numbering System (DUNS) records data. During a new registration, or when updating a record, the registrant has a choice to accept or reject the information provided from the D&B records. If the registrant agrees with the D&B supplied information, the D&B data will be accepted into the CCR registrant record. If the registrant disagrees with the D&B supplied data, the registrant must go to the D&B Web site at http://fedgov.dnb.com/webform to modify the information contained in D&B's records before proceeding with its CCR registration. Once D&B confirms the updated information, the registrant must revisit the CCR Web site and “accept” D&B's changes. Only at this point will the D&B data be accepted into the CCR record. This process can take up to 2 business days for D&B to send modified data to CCR, and that time frame may be longer if data is sent from abroad.

b. CCR EIN/TIN Validation. To complete the CCR registration and qualify as a vendor eligible to bid for federal government contracts or apply for federal grants, the EIN/TIN and Employer/Taxpayer Name combination you provide in the IRS Consent Form must match exactly to the EIN/TIN and Employer/Taxpayer Name used in federal tax matters. It will take one to two business days to validate new and updated records prior to becoming active in CCR. Please be sure that the data items provided to D&B match information provided to the IRS. If the registration in D&B and the CCR do not match the IRS information, an error message will result. Until the discrepancies have been resolved, the registration will not be completed. HUD recommends that applicant organizations carefully review their D&B and CCR registration information for accuracy immediately upon publication of this notice. If you have questions about your EIN/TIN, call 800-829-4933.

c. Detailed Steps for NEW applicant organizations to register with CCR. The following is a step-by-step guide to help an applicant organization register with CCR. As noted, additional assistance is available online at http://www.ccr.gov. Before beginning the CCR registration process, organizations should designate an individual who will be responsible for completing the CCR registration and managing the information entered into CCR. The listing below identifies the steps in the CCR registration process.

(1) Go to http://ccr.gov/. Once on the site, on the left side of the screen, click “Start New Registration.” At the “Start a New Registration” screen, of the three choices, please select “I am not a U.S. Federal Government entity.” Click “Continue.”

Note: CCR registration is NOT required for individuals; however, HUD does not directly fund individuals through its NOFA process.

(2) The next screen provides review items that must be completed before continuing in CCR. After reviewing the information and all items have been completed, click “Continue with Registration.”

(3) To begin registration with CCR, enter the organization entity's DUNS number and click “Next.”

(4) At the next screen, “New Registration,” enter the organization's DUNS number. Then click “Next.” The next “New Registration” screen displays the DUNS number. The registrant will be prompted to enter the organization information, e.g., name address, etc. If the information inputted does not match that contained in the D&B record for the DUNS number provided, the system will state: “Try again by correcting your input below” or “Contact D&B to make a change to your D&B DUNS record.”

(5) The next page of “New Registration” is “Verify Your Results with D&B.” Here the registrant will be asked, “Is this information correct?” After ensuring the accuracy of the information, click on “Accept/Continue or Cancel.”

(6) If you “Accept/Continue,” the confirmation number will be displayed. This is a temporary number that allows the registrant to save the registration as a work in progress. Print this page. A temporary number along with the organization DUNS number will let the registrant access CCR to complete the registration at a later date.

(7) Continuing registration from the Confirmation page, click “Continue.”

(8) “How to Complete your Registration” is the next page. Once the information has been reviewed and found correct, click “Continue.”

(9) The “General Information” page is the next screen. On this page the registrant will need to complete all the required information.

(10) Creating a Marketing Partner ID Number (MPIN). The final step in creating the organization's TTP requires the registrant to create a MPIN. The MPIN is a self-defined nine character password that the E-Biz POC will need to access Grants.gov to authorize an AOR to be able to submit a grant application.

(11) Registration Notification. If the registration was submitted successfully, the registrant will receive two letters through the U.S. Mail or e-mail. The first welcomes the registrant to CCR and includes a copy of the registration. The second contains the confidential TPIN. Receipt of the TPIN confirms successful registration in CCR and serves as the registrant's confidential password to change CCR information.

d. Detailed Steps for Updating/Renewing Current Registrations.

(1) The E-Biz POC for the organization that is identified in box 8a of the SF-424 should go to http://ccr.gov/. Once on the site, on the left side of the screen, click “Update or Renew Registration.” At the “Update Renew Registration” screen, of the three choices, please select “I am not a U.S. Federal Government entity.” Click “Continue.”

Note: CCR registration is NOT required for individuals. HUD does not directly fund individuals through its NOFA process.

(2) The next screen asks the E-Biz POC to enter the organization's DUNS number and TPIN Number sent to the E-Biz POC at the time of the last update; click “Log In” to continue.

Note: If the E-Biz POC can't remember the TPIN, the site provides a link to request the TPIN.

(3) The next screen “General Information” displays the organization information. This site allows the E-Biz POC to update information contained in with CCR. Once information has been reviewed and, as needed updated, click on “validate/save data.”

Note: The E-Biz POC will validate and save data contained within CCR for Corporate Information, Goods/Services, Financial, Points of Contact, and IRS content. Once the information has been validated and saved in each required each section, the last screen will indicate “Registration Complete.”

e. Current Registrants without an MPIN. If you currently have an active registration in CCR and you do not have an MPIN, you will need to do the following:

(1) Access the CCR Web site at http://www.ccr.gov. At the left margin, click on “Update or Renew Registration.”

(2) Select “I am not a U.S. Federal Government entity.” Click “Continue.”

(3) Enter the organization's DUNS number and TPIN.

(4) On the next page click on the link “Points of Contact.” Complete all fields for the E-Biz POC and the alternate E-Biz POC. Scroll down to the bottom of the Points of Contact page, and create your own MPIN. Once completed, click on the “Validate/Save” button.”

Notice: To Active Registrants in CCR: A TPIN is a password that is used to access your CCR data. Organizations that become active in CCR are issued a TPIN (password) to access and maintain their data. Because of the sensitivity of this data, CCR recommends that you do not disclose your TPIN to anyone under any circumstances.

3. Step Three: Register with the Credential Provider

a. Registering with Credential Provider. To safeguard the security of electronic information, Grants.gov utilizes a Credential Provider to determine with a degree of assurance that someone is really who he or she claims to be. Once the organization requesting funding has identified who will be submitting the Application for Federal Financial Assistance on their behalf, the person to submit the application must register with a Credential Provider to create his/her user name and password. The User Name and Password created through the credential provider will be registered with Grants.gov as part of the next step in the registration process. To register with a credential provider, the designated person must have the organization's DUNS number that will be entered in box 8a of the form SF 424, Application for Federal Assistance. The organization's DUNS number used must be identical to the DUNS number for the organization found in the CCR registration.

Since August 30, 2007, organizations have three federally approved credential providers available from which to choose their authentication services—the Agriculture Department; the Office of Personnel Management's Employee Express; and Operational Research Consultants (ORC), Inc., which also provided authentication services prior to August 30, 2007. Until January 11, 2009, or shortly thereafter, users who already hold a Grants.gov user name and password through ORC will not experience much change. New Users will be able to choose from any of the three credential providers available.

• To register with a credential Provider go to http://apply07.grants.gov/apply/ORCRegister. Once you have accessed the site, scroll down the page and enter the DUNS number, and click on “Register”.

• At the next screen scroll down and select “Get Your Credentials”.

• On the “eAuthentication User Information” screen, complete and submit all information.

• On the next screen confirm your information and create your own Username and PASSWORD. Then click “Submit.” If all the information has been entered correctly, you will receive a notice of Registration Success.

b. Obtaining Credentials through Grants.gov. In January, 2009, Grants.gov will be teminating service with the current Grants.gov credential provider, Operational Research Consultants (ORC). As a result of this change, Grants.gov will be providing credentials (username and password) to Grants.gov registrants.

(1) New Grants.gov Registrants. After January 2009, or when Grants.gov begins providing credential services, when clicking on the “For Applicants” link, new Grants.gov registrants will get a pop-up screen asking them to update their user profile. The information requested is similar to the information that was previously provided to ORC or one of the other credential providers. In addition to updating their user profile, registrants will be asked to enter a Secret Question and Secret Answer. The Secret Question and Secret Answer portion of the information provides for increased security for future inquiries about the registrants account and allows registrants to reset their own password. Once created users will be able to reset their password on their own. Previously users needed to call the Grants.gov Help desk to get a password or username reset or go back to the credential provider to get a password they forgot.

(2) Existing/Legacy Registrants. Grants.gov will retain the username and password for existing/legacy registrants. However, existing/legacy registrants will have to update their profile by clicking on the “For Applicants” link, update their profile, and establish a Secret Question and Answer. If a registered user wants to be able to use the automated change password feature, they must update their profile and establish the Secret Question and Answer. The automated username and password feature will not work if the registrant has not updated their profile and created the Secret Question and Answer.

(3) Forgot My Username and Forgot My Password Links. New and legacy applicants that updated their profile and created a Secret Question and Answer will be able to use the Forgot My Username and Forgot My Password links on the Applicant Login Screen to have their username and password sent to them via e-mail. To do so, they will have to know the DUNS number and e-mail address to retrieve and reset their username and password.

Note: Your registration to use Grants.gov to submit a funding application on behalf of an organization is not complete until Steps Four and five below are completed.

c. Steps for Checking your Credentials.

(1) Prior to January 11, 2009, or when Grants.gov begins to offer credential provider services, if you want to check your credentials prior to submitting an application, you may go to http://e-auth.orc.com/. Once you are on the E-Authentication site, scroll down the page and click on the link “Check your Credentials”. Enter your Username and Password. If you enter the correct information you will receive a message that states, “You have successfully verified your registration”. If you have forgotten your password, click on the link “User Administration” and select “forgotten password” located in the left margin. On the next screen enter your Username and click, submit. The next screen displays your secret question, follow instructions on this site and click submit. Your password has been reset.

(2) After January 11, 2009, or when Grants.gov offers credential provider services, AORs who have updated their profile and created the Secret Question and Answer as a Grants.gov registrant, can log into Grants.gov and obtain or reset their registered username and password or reset their username and password through the Grants.gov automated service. If an applicant organization has multiple users, each registered Grants.gov user will have to update their Grants.gov user profile and create a Secret Question and Answer. Questions about changes to the Grants.gov registration process, provision of credentials by Grants.gov, and use of the automated service should be directed to the Grants.gov Help Desk at 800-518-GRANTS.

4. Step Four: Register with Grants.gov

a. Prior to January 11, 2009 or prior to when Grants.gov offers credential provider services, after completing Step 3, creating a User Name and Password with the credential provider, the person(s) named by the applicant organization to submit an application for funding on behalf of the organization and registered with a Credential Provider, application must open an account with Grants.gov. Opening the account with Grants.gov identifies the person as an AOR for the organization seeking funding who is requesting permission to submit the application. The final step in the registration process is when the E-Biz POC for the applicant organization identified in Box 8a of the SF-424 Application for Federal Assistance, actually grants authorization to the person identified as an AOR. (See Step Five below). To register with Grants.gov go to https://apply07.grants.gov/apply/GrantsgovRegister. After the proposed AOR registers their registering your Username and Password with Grants.gov, the organization's E-Biz POC will be sent an e-mail indicating that someone has requested authority to submit an application for the organization and has registered as an AOR.

b. After January 11, 2009, or when Grants.gov offers credential provider services, the person(s) named by the applicant organization to submit an application for funding on behalf of the organization, must open an account with Grants.gov, or update their existing account. Opening the account with Grants.gov identifies the person as a proposed AOR seeking funding for the organization named in box 8a of the SF-424, Application for Federal Financial Assistance, and who is requesting permission to submit the application. To open an account, the proposed AOR must complete the profile information and create a Secret Question and Answer at Grants.gov. An existing or legacy AOR can log into Grants.gov using their username and password, update their profile, and create a Secret Question and Answer.

To register with Grants.gov go to https://apply07.grants.gov/apply/GrantsgovRegister. After the proposed AOR registers their Username and Password with Grants.gov, the organization's E-Biz POC will be sent an e-mail indicating that someone has requested authority to submit an application for the organization and has registered as an AOR.

The final step in the registration process is when the E-Biz POC for the applicant organization identified in Box 8a of the SF-424 Application for Federal Assistance, actually grants authorization to the person identified as an AOR. (See Step Five below).

5. Step Five: Granting Approval of an AOR to Submit an Application on Behalf of the Organization. The E-Biz POC must log into the Grants.gov Web site and give the registered AOR approval to submit an application to Grants.gov. By authorizing the AOR to submit on behalf of the applicant organization, the E-Biz POC is stating that the person has the legal authority to submit the electronic application on behalf of the applicant organization and can make a legally binding commitment for the applicant organization.

a. The E-Biz POC must approve the designated AOR(s). If the E-Biz POC does not grant authorization, Grants.gov will not accept the application. The E-Biz POC can designate the AOR to submit applications on behalf of the organization at https://apply07.grants.gov/apply/AorMgrGetID. The registration is complete when an AOR has been approved to submit an application on behalf of the applicant organization by the E-Biz POC.

HUD urges applicants to check with their E-Biz POC to make sure that they have been authorized to make a legally binding commitment for the applicant organization when submitting the application to Grants.gov. This is particularly important if during the CCR registration renewal process the E-Biz POC for the applicant organization has been changed. The new E-Biz POC will have to grant authorization to all AORs. You can search the CCR registration for the E-Biz POC by going to https://www.bpn.gov/CCRSearch/Search.aspx.

b. AORs can track their AOR status at any time on Grants.gov by going to the Applicant home page at Grants.gov. In “Quick Links” log in as an applicant and enter your Username and Password. If you have not been granted AOR status by the E-Biz POC, you should contact the E-Biz POC directly.

III. Instructions on How to Download an Application Package and Application Instructions at Grants.gov

This Section provides information regarding how to download the application package and the application instructions package from Grants.gov. Applicants do not need to be registered with Grants.gov to download an application or the instructions, but all the steps in the registration process must be complete to successfully submit an application for funding consideration through Grants.gov. Applicants should carefully read the instructions before completing the application. The instructions download will contain the General Section and the Program Section. Together, these documents provide details of what will be required in your application submission as well at what rules and requirements you will be expected to comply with if you get awarded funds. The General Section explains that HUD is using Adobe forms, what version of Adobe Reader to download from the Grants.gov site, and how to set Adobe Reader default settings on your computer. The instructions download will also contain any additional forms that are not part of the application package but are required to have a complete application.

Grants.gov now offers RSS Feed services. Applicants are advised to sign up for one of the RSS feed services which will allow an applicant to be notified of new funding opportunities or modifications to an existing funding opportunity. Information on RSS Feed options can be found at http://www07.grants.gov/help/rss.jsp. Applicants familiar with this technology may select any feed service listed on the Grants.gov site. However, to assist applicants with making a selection, HUD is offering these suggestions for the most popular services:

• e-mail with Microsoft Outlook Directions:

—Open your web browser and go to http://www.Grants.gov.

—In the upper right corner of the screen, select RSS.

—In the middle of the page, click on the hyperlink in (Get an RSS Reader).

—From the list of categories, select Windows.

—Select blogbot for Outlook.

—Select Download. (A File Download dialog box will appear).

—Select Run. (If you see a Security Warning dialog box, select Run.)

—Run Setup Wizard accepting the default settings.

—When the Setup Wizard is finished, open Outlook.

—Look to see if a blogbot icon is visible in the tool bar area of Outlook. If not,

—Select View in the menu. Select Toolbars. Click on blogbot.

—The blogbot icon should now be visible in your toolbars.

—To subscribe to Grants.gov direct your browser back to the Grants.gov RSS page.

—Right click on the orange icon next to New/Modified Opportunities by Agency or New/Modified Opportunities by Category.

—Select Add to blogbot for Outlook. For each subscription blogbot adds a subfolder in Inbox blogbot.

—If the add blogbot for Outlook option does not appear, Select the feed you to which you want to subscribe and copy the URL from the address box.

—From the blogbot toolbar icon, select Subscriptions.

—Paste the URL from Grants.gov into the RSS/Atom URL textbox.

—Create a name in the Name textbox.

• Windows Environment Directions:

—Direct your web browser to http://www.jetbrains.com.

—Select Downloads at the top of the page.

—Select Omea Reader.

—A File Download dialog box will appear.

—Select Run. (If you see a Security Warning dialog box, select Run.)

—Accept the default settings in the Setup Wizard. Note, Omea installation may ask to reboot your computer. Accept the choice.

—When the reboot is complete Omea Startup Wizard should open. (If the Startup Wizard does not start automatically, double-click on the Omea icon on your desktop to start it).

—Accept all defaults in the Wizard.

—When the wizard is finished, OMEA Reader will start.

—To view messages in groups, from the View menu, select Show Items in Groups.

—After you have turned this option on, all items in the Items List will be displayed in groups and sorted according to which resource column is selected.

—You can group your items by any column of the Items List.

• MAC Users Directions:

—Direct Safari to www.Grants.gov.

—In the upper right corner of the screen, select RSS.

—To view announcements in Safari, simply select one of the feed options, e.g., New/Modified Opportunities by Agency or New/Modified Opportunities by Category. (The list of opportunities appears in Safari).

—In the column on the right side of the page, select Subscribe in Mail.

—Open Mail.

—You should now have a folder under RSS named, “Grants Modified Opportunities List”.

—Filter the list by typing the Agency acronym or other term into the search box in the upper right corner.

Applicants should sign up for the RSS Feed to be notified when HUD places a funding opportunity on Grants.gov or does a technical correction or an amendment to an opportunity on Grants.gov.

Applicants that have not signed up for the RSS Feed notification service can search for a funding opportunity on Grants.gov by going to http://www.grants.gov/applicants/find_grant_opportunities.jsp. On this page you can do a basic search, browse by category, or browse by agency. If you are interested in HUD Grants, click on browse by agency and then scroll down the page until you see U.S. Department of Housing and Urban Development on the right column. When you click on the HUD agency name, you will come to a page with all the funding opportunities that are posted by HUD at that point in time. When you click on an opportunity, you will come to a page that provides a synopsis of the opportunity and which also identifies the Catalog of Federal Domestic Assistance (CFDA) Number for the Program, the Funding Opportunity Number and further down the page, a link to the full announcement. To download the application and instructions, follow the directions below, but first you must be sure you have the compatible Adobe Reader installed. HUD's FY2009 applications use Adobe Reader. HUD uses the Adobe forms application packages because they are compatible with the broadest array of computer hardware and software technology currently in use by HUD's applicant/grantee community. To open and complete the application package you must have installed Adobe Reader 8.1.3. Adobe Reader 8.1.3 is available free and can be found on the Grants.gov Web site at http://www.grants.gov/help/download_software.jsp. Adobe Reader 8.1.3 was designed by Adobe to address the Broken Pipe error messages that occurred during FY2008 submissions. Please make anyone that will be working on the Adobe forms portion of the application aware that they must download the new 8.1.3 Adobe Reader. This does not impact forms that you may save as PDF forms to your application as attachments. Adobe Reader 8.1.3 is compatible with Adobe Professional versions 6.0 and higher. However, for the newest Adobe Reader to work, you must be sure that your Adobe default setting for the Reader is set to the Adobe 8.1.3 version. Grants.gov has posted instructions Frequently Asked Questions (FAQs) at http://grants.gov/applicants/applicant_faqs.jsp. Applicants should review these FAQs as it will assist them in making sure that they are properly set up to successfully submit an application. Applicants need to make sure that the default setting on their Adobe Reader is set to the new 8.1.3 version of Adobe Reader software downloaded from Grants.gov. Adobe Reader 8.1.3 is compatible with Adobe Professional 6.0 or higher. Applicants that need assistance can contact the Grants.gov Contact Center by phone at 800-518-GRANTS or via e-mail at Support@Grants.gov.

Critical Notice: Applicants must be aware that all persons working on the Adobe forms in the application package must work using the same Adobe Reader version available from Grants.gov. Please alert your staff and those working on your application that failure to download and use the correct Adobe Reader 8.1.3 or to update the Reader on Adobe Professional to 8.1.3 and meet the Grants.gov compatibility requirements contained in this General Section, will result in your not being able to create or submit the application package to Grants.gov or in your application being rejected by Grants.gov. Using incompatible versions of Adobe Reader will result in files being corrupted.

Applicants are urged to review the Adobe Reader 8.1.3 information and get the new reader installed on their computer when this Notice is published so that they are prepared for the FY2009 NOFAs when they are published.

A. Application Package and Application Instructions Download. Once you have installed Adobe Reader 8.1.3 you can download the Application Package and instructions. To download the application and instructions go to https://apply07.grants.gov/apply/forms_apps_idx.html and enter the CFDA Number, Funding Opportunity Number, or Funding Competition ID for the opportunity you are interested in do not enter more than one criterion. If you enter more than one criterion, you will get a message that states the opportunity cannot be found. Only enter one of the above numbers.

On the next page “Selected Grant Applications for Download,” you will find the funding opportunity link to Download Instructions and Application. Additional resource information is also on this page, including a reminder to sign up for e-mail notification for changes to the funding opportunity, a download link to the Adobe Reader, as well as a Help link.

Click on the Download link to get to the Download page. Then proceed to download the instructions and the application. If you get an error message in opening the downloaded application, you have not properly installed the Adobe Reader 8.1.3. Contact your IT help desk or the Grants.gov support desk at Support@Grants.gov by e-mail or by calling 800-518-GRANTS.

B. Download Instructions Link. The instructions download is a compressed file (ZIP) containing the General Section and Program Sections for the funding opportunity. It also contains forms and copies of the General Section and Program Section of HUD's NOFAs, information that you will need to submit a complete application to Grants.gov for HUD funding consideration. Each program NOFA provides a checklist which you can use to ensure that you have completed all elements of your application. HUD's General Section provides helpful information and tips to ensure that you complete your application correctly and what to do to ensure that all your information is attached to the application. When attaching files to your application, HUD suggests that you open each attachment file and scroll down to make sure it is the complete file that you want to submit.

Questions regarding the Grants.gov Registration process or the installation of Adobe Reader 8.1.3 should be directed to the Grants.gov help desk during operating hours Monday-Friday (except Federal holidays) from 7 a.m. to 9 p.m. eastern time at 800-518-GRANTS.

Dated: December 1, 2008.
Keith A. Nelson,
Assistant Secretary for Administration.

[FR Doc. E8-28868 Filed 12-4-08; 8:45 am]

BILLING CODE 4210-67-P